DEPARTMENT OF ENERGY

Federal Energy Regulatory Commission

Combined Notice of Filings #1

Take notice that the Commission received the following exempt wholesale generator filings:

Docket Numbers: EG19-158-000.

Applicants: Wright Solar Park LLC.

Description: Notice of Self-Certification of Exempt Wholesale Generator Status of Wright Solar Park LLC.

Filed Date: 7/31/19.

Accession Number: 20190731-5102.

Comments Due: 5 p.m. ET 8/21/19.

Take notice that the Commission received the following electric rate filings:

Docket Numbers: ER18-1906-001; ER16-221-002; ER18-1907-001; ER17-1757-002; ER10-1767-004; ER10-1532-004; ER10-1541-005; ER10-1642-006; ER13-2349-003; ER13-2350-003.

Applicants: Entergy Arkansas, LLC, Entergy Louisiana, LLC, Entergy Mississippi, LLC, Entergy New Orleans, LLC, Entergy Texas, Inc., Entergy Nuclear Palisades, LLC, Entergy Power, LLC, EWO Marketing, LLC, EAM Nelson Holding, LLC, RS Cogen, LLC.

Description: Supplement to June 24, 2019 Notification of Change in Status [Attachment B—Excel format] of the Entergy Central MBR Utilities.

Filed Date: 7/26/19.

Accession Number: 20190726-5175.

Comments Due: 5 p.m. ET 8/5/19.

Docket Numbers: ER18-1918-003.

Applicants: Kestrel Acquisition, LLC.

Description: Report Filing: Refund Report 2019 to 5 to be effective N/A.

Filed Date: 7/31/19.

Accession Number: 20190731-5141.

Comments Due: 5 p.m. ET 8/21/19.

Docket Numbers: ER19-1936-001.

Applicants: Idaho Power Company.

Description: Compliance filing: Response to Deficiency Letter Regarding Order Nos. 845 and 845-A Filing to be effective 5/22/2019.

Filed Date: 7/30/19.

Accession Number: 20190730-5101.

Comments Due: 5 p.m. ET 8/20/19.

Docket Numbers: ER19-2496-000.

Applicants: Pacific Gas and Electric Company.

Description: § 205(d) Rate Filing: Amendment to Agreement of Cotenancy (RS 139) to be effective 7/31/2019.

Filed Date: 7/30/19.

Accession Number: 20190730-5099.

Comments Due: 5 p.m. ET 8/20/19.

Docket Numbers: ER19-2497-000.

Applicants: California Independent System Operator Corporation.

Description: § 205(d) Rate Filing: 2019-07-30 Real-Time Neutrality Settlement Amendment to be effective 8/1/2019.

Filed Date: 7/30/19.

Accession Number: 20190730-5100.

Comments Due: 5 p.m. ET 8/20/19.

Docket Numbers: ER19-2498-000.

Applicants: Midcontinent Independent System Operator, Inc.

Description: § 205(d) Rate Filing: 2019-07-31_SA 3152 Polaris Wind Energy-METC 1st Rev GIA (J533) to be effective 7/17/2019.

Filed Date: 7/31/19.

Accession Number: 20190731-5022.

Comments Due: 5 p.m. ET 8/21/19.

Docket Numbers: ER19-2499-000.

Applicants: Tuscola Wind II, LLC.

Description: Baseline eTariff Filing: Reactive Power Compensation Filing to be effective 9/29/2019.

Filed Date: 7/31/19.

Accession Number: 20190731-5047.

Comments Due: 5 p.m. ET 8/21/19.

Docket Numbers: ER19-2500-000.

Applicants: Pheasant Run Wind, LLC.

Description: Baseline eTariff Filing: Reactive Power Compensation Filing to be effective 9/29/2019.

Filed Date: 7/31/19.

Accession Number: 20190731-5048.

Comments Due: 5 p.m. ET 8/21/19.

Docket Numbers: ER19-2501-000.

Applicants: Southwest Power Pool, Inc.

Description: § 205(d) Rate Filing: 3126R4 WAPA NITSA and NOA to be effective 7/1/2019.

Filed Date: 7/31/19.

Accession Number: 20190731-5056.

Comments Due: 5 p.m. ET 8/21/19.

Docket Numbers: ER19-2502-000.

Applicants: Alabama Power Company.

Description: § 205(d) Rate Filing: Wiregrass LGIA Filing to be effective 7/17/2019.

Filed Date: 7/31/19.

Accession Number: 20190731-5077.

Comments Due: 5 p.m. ET 8/21/19.

Docket Numbers: ER19-2503-000.

Applicants: Southern California Edison Company.

Description: § 205(d) Rate Filing: SCE Revised TO Tariff Appendix X to be effective 7/26/2019.

Filed Date: 7/31/19.

Accession Number: 20190731-5084.

Comments Due: 5 p.m. ET 8/21/19.

Docket Numbers: ER19-2504-000.

Applicants: Southern California Edison Company.

Description: § 205(d) Rate Filing: SCE Revised WDAT Attachment J to be effective 7/26/2019.

Filed Date: 7/31/19.

Accession Number: 20190731-5085.

Comments Due: 5 p.m. ET 8/21/19.

Docket Numbers: ER19-2505-000.

Applicants: Southern California Edison Company.

Description: § 205(d) Rate Filing: WDAT Energy Storage to be effective 9/30/2019.

Filed Date: 7/31/19.

Accession Number: 20190731-5101.

Comments Due: 5 p.m. ET 8/21/19.

Docket Numbers: ER19-2506-000.

Applicants: Pacific Gas and Electric Company.

Description: § 205(d) Rate Filing: Q2 2019 Quarterly Filing of City and County of San Francisco's WDT SA (SA 275) to be effective 6/30/2019.

Filed Date: 7/31/19.

Accession Number: 20190731-5115.

Comments Due: 5 p.m. ET 8/21/19.

Docket Numbers: ER19-2507-000.

Applicants: Convergent Energy and Power LP.

Description: § 205(d) Rate Filing: Normal filing 2019 to be effective 8/1/2019.

Filed Date: 7/31/19.

Accession Number: 20190731-5116.

Comments Due: 5 p.m. ET 8/21/19.

Docket Numbers: ER19-2508-000.

Applicants: Southwest Power Pool, Inc.

Description: § 205(d) Rate Filing: 3215R6 People's Electric Cooperative NITSA NOA to be effective 7/1/2019.

Filed Date: 7/31/19.

Accession Number: 20190731-5121.

Comments Due: 5 p.m. ET 8/21/19.

Docket Numbers: ER19-2509-000.

Applicants: Southwest Power Pool, Inc.

Description: § 205(d) Rate Filing: 3563 ETEC, MISO and Entergy Services Attachment AO to be effective 7/1/2019.

Filed Date: 7/31/19.

Accession Number: 20190731-5130.

Comments Due: 5 p.m. ET 8/21/19.

Docket Numbers: ER19-2510-000.

Applicants: Public Service Company of Colorado.

Description: § 205(d) Rate Filing: PSCo-Multi-CFA-350-Exh I & L 0.1.0-Exh N 0.0.0 to be effective 9/30/2019.

Filed Date: 7/31/19.

Accession Number: 20190731-5143.

Comments Due: 5 p.m. ET 8/21/19.

Take notice that the Commission received the following electric securities filings:

Docket Numbers: ES19-47-000.

Applicants: Consumers Energy Company.

Description: Application under Section 204 of the Federal Power Act for Authorization to Issue Securities of Consumers Energy Company.

Filed Date: 7/30/19.

Accession Number: 20190730-5124.

Comments Due: 5 p.m. ET 8/20/19.

Take notice that the Commission received the following qualifying facility filings:

Docket Numbers: QF19-1431-000.

Applicants: Milton Regional Sewer Authority.

Description: Form 556 of Milton Regional Sewer Authority.

Filed Date: 7/31/19.

Accession Number: 20190731-5032.

Comments Due: Non-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2019.
Nathaniel J. Davis, Sr.,
Deputy Secretary.

[FR Doc. 2019-16726 Filed 8-5-19; 8:45 am]

BILLING CODE 6717-01-P